DEPARTMENT OF TRANSPORTATION

Federal Aviation Administration

14 CFR Part 39

[Docket No. FAA-2011-0318; Directorate Identifier 2010-CE-033-AD]

RIN 2120-AA64

Airworthiness Directives; Burl A. Rogers (Type Certificate Previously Held by William Brad Mitchell and Aeronca, Inc.) Models 15AC and S15AC Airplanes

AGENCY: Federal Aviation Administration (FAA), DOT.

ACTION: Notice of proposed rulemaking (NPRM); Extension of the comment period.

SUMMARY: This document extends the period for public comment on the above-referenced NPRM. The proposed AD would require repetitive inspections of the upper and lower main wing spar cap angles for cracks and/or corrosion and installing inspection access panels. The proposed AD would also require replacing the wing spar cap angles if moderate or severe corrosion is found and applying corrosion inhibitor. The proposed AD was prompted by reports of intergranular exfoliation and corrosion of the upper and/or lower wing main spar cap angles found on the affected airplanes. We are proposing this AD to detect and correct cracks, intergranular exfoliation and corrosion in the wing main spar cap angles, which could result in reduced strength of the wing spar and the load carrying capacity of the wing. This could lead to wing failure and consequent loss of control. This extension of the comment period is necessary to assure that all interested persons have ample opportunity to present their views on the proposed requirements of the NPRM.

DATES: We must receive comments on this proposed AD by July 3, 2011. The comment due date is being extended from May 19, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Burl's Aircraft, LLC, P.O. Box 671487, Chugiak, Alaska 99567-1487; phone: (907) 688-3715; fax (907) 688-5031; e-mail burl@biginalaska.com; Internet: http://www.burlac.com. You may review copies of the referenced service information at the FAA, Small Airplane Directorate, 901 Locust, Room 301, Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Eric Wright, Aerospace Engineer, FAA, Anchorage Aircraft Certification Office, 222 W. 7th Ave., #14, Anchorage, Alaska 99513; telephone: (907) 271-2648; fax: (907) 271-6365; e-mail: eric.wright@faa.gov.

SUPPLEMENTARY INFORMATION:

Comments Invited

We invite you to send any written relevant data, views, or arguments about this proposed AD. Send your comments to an address listed under the ADDRESSES section. Include “Docket No. FAA-2011-0318; Directorate Identifier 2010-CE-033-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an airworthiness directive (AD) that would apply to all Burl A. Rogers (type certificate previously held by William Brad Mitchell and Aeronca, Inc.) Models 15AC and S15AC airplanes. The NPRM published in the Federal Register on April 4, 2011 (76 FR 18454). The NPRM proposed to require repetitive inspections of the upper and lower main wing spar cap angles for cracks and/or corrosion and installing inspection access panels. The NPRM also proposed to require replacing the wing spar cap angles if moderate or severe corrosion is found and applying corrosion inhibitor.

Since we issued the NPRM, we received a request to extend the comment period of the NPRM to 90 days.

FAA's Determination

We have considered the request and find it appropriate to extend the comment period to give all interested persons additional time to examine all data and the proposed requirements of the NPRM and submit comments. We determined that extending the comment period to 90 days will not compromise the safety of these airplanes.

The comment period for Docket No. FAA-2011-0318; Directorate Identifier 2010-CE-033-AD is hereby extended to July 3, 2011.

Since no portion of the NPRM or other regulatory information has been changed, the entire NPRM is not being republished.

Issued in Kansas City, Missouri, on April 22, 2011.
John Colomy,
Acting Manager, Small Airplane Directorate, Aircraft Certification Service.

[FR Doc. 2011-10383 Filed 4-28-11; 8:45 am]

BILLING CODE 4910-13-P